DEPARTMENT OF LABOR

Employment and Training Administration

[TA-W-65,891]

Springs Global US, Inc., Sardis, MS; Notice of Termination of Investigation

In accordance with Section 221 of the Trade Act of 1974, as amended, an investigation was initiated on May 6, 2009 in response to a petition filed by a company official on behalf of workers of Springs Global US, Inc., Sardis, Mississippi.

The petitioner has requested that the petition be withdrawn. Consequently, the investigation has been terminated.

Signed in Washington, DC, this 18th day of May 2009.
Richard Church,
Certifying Officer, Division of Trade Adjustment Assistance.

[FR Doc. E9-15210 Filed 6-26-09; 8:45 am]

BILLING CODE 4510-FN-P